ENVIRONMENTAL PROTECTION AGENCY

40 CFR Part 63

[AD-FRL-6928-2]

RIN 2060-AH96

National Emission Standards for Hazardous Air Pollutants from Off-Site Waste and Recovery Operations

AGENCY: Environmental Protection Agency (EPA).

ACTION: Final rule; technical corrections and amendments.

SUMMARY: Under the Clean Air Act (CAA), the EPA promulgated the National Emission Standards for Hazardous Air Pollutants (NESHAP) from Off-Site Waste and Recovery Operations (OSWRO) on July 1, 1996 with subsequent amendments on July 20, 1999. The promulgated rule requires new and existing major sources to control emissions of hazardous air pollutants (HAP) to the level reflecting application of the maximum achievable control technology. The technical corrections and minor technical amendments in this action will not change the basic control requirements of the rule or the level of health protection it provides.

Section 553 of the Administrative Procedure Act, 5 U.S.C. 553(b)(B), provides that, when an agency for good cause finds that notice and public procedure are impracticable, unnecessary, or contrary to the public interest, the agency may issue a rule without providing notice and an opportunity for public comment. We have determined that there is good cause for making today's rule final without prior proposal and opportunity for comment because the changes to the rule are minor technical corrections, are noncontroversial in nature, and do not substantively change the requirements of the OSWRO rule. Thus, notice and public procedure are unnecessary. We find that this constitutes good cause under 5 U.S.C. 553(b)(B).

Section 553(d)(3) allows an agency, upon finding good cause, to make a rule effective immediately. Because today's changes do not substantively change the requirements of the OSWRO rule, we find good cause to make these amendments effectively immediately.

EFFECTIVE DATE: January 8, 2001.

ADDRESSES: Docket No. A-92-16 contains the supporting information for the original OSWRO NESHAP and this action. The docket is located at the U.S. EPA in room M-1500, Waterside Mall (ground floor), 401 M Street SW, Washington, DC 20460, and may be inspected from 8:00 a.m. to 5:30 p.m., Monday through Friday, excluding legal holidays. A reasonable fee may be charged for copying.

FOR FURTHER INFORMATION CONTACT: Ms. Elaine Manning, Waste and Chemical Processes Group, Emission Standards Division (MD-13), U.S. EPA, Research Triangle Park, NC, 27711, telephone number (919) 541-5499, facsimile number (919) 541-0246, electronic mail address manning.elaine@epa.gov.

SUPPLEMENTARY INFORMATION: Regulated Entities. Entities potentially regulated by this action include the following types of facilities if the facility receives “off-site material” as defined in the rule, and the facility is determined to be a major source of emissions of HAP as defined in 40 CFR 63.2.

Category | Examples of regulated entities
Industry | Businesses that receive waste, used oil, or used solvent from off-site locations and manage this material in any of the following waste management or recovery operations: hazardous waste treatment, storage, and disposal facilities (TSDF); hazardous wastewater treatment operations exempted from air emission control requirements in 40 CFR parts 264 or 265; nonhazardous wastewater treatment facilities other than publicly owned treatment works; used solvent recovery operations; recovery operations that recycle or reprocess hazardous waste and are exempted from regulation as a TSDF in 40 CFR parts 264 or 265; and used oil re-refineries.
Federal Government | Federal agency facilities that operate any of the waste management or recovery operations that meet the description of the entities listed under the “Industry” category in this table.

This table is not intended to be exhaustive, but rather provides a guide for readers regarding entities likely to be regulated by this action. This table lists the types of entities that the EPA is now aware could potentially be regulated by this action.

A comprehensive list of Standard Industrial Classification (SIC) codes cannot be compiled for businesses potentially regulated by this action due to the structure of the rule. The rule may be applicable to any business that receives waste, used oil, or used solvent from an off-site location and then manages this material in one of the operations or processes specified in the rule. Thus, for many businesses subject to the rule, the regulated sources (i.e., off-site waste management or recovery operations) are only a small part of the overall manufacturing process or service conducted at the facility. In these cases, the SIC code indicates the primary product produced or service provided at the facility rather than the presence of an off-site waste management or recovery operation at the site which is operated to support the predominate function of the facility. For example, SIC code classifications likely to have off-site waste management or recovery operations at some (but not all) facilities include, but are not limited to, petroleum refineries (SIC code 2911), industrial organic chemical manufacturing (SIC code 286x), plastic materials and synthetics manufacturing (SIC code 282x), and miscellaneous chemical products manufacturing (SIC code 289x). The EPA is also aware of off-site waste management or recovery operations potentially subject to the rule being located at a few facilities listed under SIC codes for refuse systems, waste management, business services, miscellaneous services, and nonclassifiable. Thus, the SIC code alone for a given facility does not determine whether the facility is or is not potentially subject to this rule.

To determine whether your facility is regulated by this action, you should carefully examine the applicability criteria in § 63.680 of the rule. If you have questions regarding the applicability of this action to a particular entity, consult the person listed in the preceding FOR FURTHER INFORMATION CONTACT section of this document. World Wide Web (WWW). The text of today's document will also be available on the WWW through the Technology Transfer Network (TTN). Following signature, a copy of this action will be posted on the TTN's policy and guidance page for newly proposed or promulgated rules http//www.epa.gov/ttn/oarpg. The TTN provides information and technology exchange in various areas of air pollution control. If more information regarding the TTN is needed, call the TTN HELP line at (919) 541-5384.

I. Background

The EPA, under 40 CFR part 63, subpart DD, promulgated the OSWRO NESHAP on July 1, 1996 (61 FR 34140). The OSWRO NESHAP establish standards to control HAP emissions from certain waste management and recovery operations that are not subject to Federal air standards under other subparts in 40 CFR part 61 or 63. Subpart DD specifies the rule's applicability, standards for affected sources, compliance requirements, and reporting and recordkeeping provisions. In addition, subpart DD cross-references other subparts in 40 CFR part 63 for the specific air emissions control requirements to be used for affected tanks, surface impoundments, containers, individual drain systems, and oil-water and organic-water separators. The cross-referenced subparts are Subpart OO, National Emission Standards for Tanks, Level 1; Subpart PP, National Emission Standards for Containers; Subpart QQ, National Emission Standards for Surface Impoundments; Subpart RR, National Emission Standards for Individual Drain Systems; and Subpart VV, National Emission Standards for Oil-Water Separators and Organic-Water Separators. Amendments were made to the final rule on July 20, 1999.

II. Summary of Corrections

Today's changes are described in Table 2 to this preamble for the convenience of the reader.

Table 2

Citation | Change
§ 63.681 | Add definition “Off-site material service” to amendatory paragraph.
§ 63.684(b)(1)(ii)(A)&(B) | Add the letters “A” and “B” which were inadvertently left out of July 20, 1999 amendments.
§ 63.685(i) and (i)(4) | Add reference to (i)(4) in (i), intro paragraph, and add (i)(4), which was left out of July 1, 1996 final rule and the July 20, 1999 amendments.
§ 63.691(a) | In the July 20, 1999 amendments, § 63.683(b)(3) was eliminated and § 63.683(d) was added to take its place. The cite in § 63.691(a) referencing § 63.683 was not corrected in the July 1999 amendments to cite § 63.683(d). Today's action corrects this oversight.
§ 63.693(d)(3)(ii), (e)(3)(ii), (f)(3)(iii), and (g)(3)(ii) | The change to the rule removes the ±1 percent accuracy requirement and replaces it with reference to part 60, appendix B, Performance Specification 8 or 9. The EPA received comments that the monitoring requirements in the rule were too vague, in that they did not define what type of monitoring device was acceptable, nor did it establish procedures for determining the accuracy requirement (±1 percent) cited in the rule. The addition of part 60, appendix B, Performance Specification 8 or 9 to the rule will aid sources in choosing and certifying appropriate monitors, as well as establishing quality assurance procedures for maintaining, calibrating and auditing the monitors.
§ 63.693 (d)(3), (d)(4)(i) and (iii) | This change adds another option to the carbon canister monitoring and replacement requirements consistent with those allowed under other related NESHAP and Resource Conservation and Recovery Act (RCRA) air rules.
§ 63.694(b)(2)(iii) | Correction to subscript of the “QT” term.
§ 63.694(1)(3)(ii)(A) | Correction to misprinted equation in July 1, 1996 final rule.
Table 2. Applicability of Paragraphs in Subpart A of Part 63—General Provisions to Subpart DD | § 63.10(b)(2)(xi) inadvertently left off table. The “yes” for this section was added.
§ 63.924(c)(2) | Change reference of § 63.692 to § 63.693. Section 63.692 is reserved.
§ 63.962(b)(3)(ii) | Corrected typographical error “in accordance.”
§ 63.965(b) | Corrected typographical error “Standards.”
§ 63.966 | Corrected typographical error “Standards.”
§ 63.1045 | Corrected typographical error “Standards.”

III. Administrative Requirements

Under Executive Order 12866 (58 FR 51735, October 4, 1993), this action is not a “significant regulatory action” and is therefore not subject to review by the Office of Management and Budget (OMB). Because the EPA has made a “good cause” finding that this action is not subject to notice and comment requirements under the Administrative Procedure Act or any other statute, it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of the UMRA. This action also does not significantly or uniquely affect the communities of tribal governments, as specified by Executive Order 13084 (63 FR 27655, May 10, 1998). This action does not have substantial direct effects on the States, on the relationship between the national government and the States, as specified in Executive Order 13132 (64 FR 43255, August 10, 1999). This action also is not subject to Executive Order 13045 (62 FR 19885, April 23, 1997) because it is not economically significant.

Section 12(d) of the National Technology Transfer and Advancement Act (NTTAA) of 1995 (Public Law No. 104-113), directs EPA to use voluntary consensus standards in their regulatory and procurement activities unless to do so would be inconsistent with applicable law or otherwise impractical. Voluntary consensus standards are technical standards (e.g., materials specifications, test methods, sampling procedures, business practices) developed or adopted by one or more voluntary consensus bodies. The NTTAA directs EPA to provide Congress, through annual reports to OMB, with explanations when an agency does not use available and applicable voluntary consensus standards.

These final rule amendments provide technical corrections and minor technical amendments to the Off-Site Waste and Recovery Operations NESHAP (Subpart DD). These amendments include two technical standards: Performance Specification 8 (PS-8), Performance Specification for Volatile Organic Compound Continuous Emission Monitoring Systems in Stationary Sources; and Performance Specification 9 (PS-9), Performance Specification for Gas Chromatograph Continuous Emission Monitoring Systems in Stationary Sources which are cited in § 63.693.

Consistent with the NTTAA, the EPA conducted a search for EPA's Performance Specifications 8 and 9. No candidate consensus standards were identified for either performance specification applicable for these amendments. Therefore, EPA is not proposing/adopting any voluntary consensus standards in this rulemaking. Nevertheless, under § 63.8, sources are allowed to apply to EPA for permission to use alternative monitoring in lieu of PS-8 and PS-9.

This technical correction action does not involve special consideration of environmental justice related issues as required by Executive Order 12898 (59 FR 7629, February 16, 1994). In issuing these rule amendments, the EPA has taken the necessary steps to eliminate drafting errors and ambiguity, minimize potential litigation, and provide a clear legal standard for affected conduct, as required by section 3 of Executive Order 12988 (61 FR 4729, February 7, 1996). The EPA has complied with Executive Order 12630 (53 FR 8859, March 15, 1988) by examining the takings implications of these rule amendments in accordance with the “Attorney General's Supplemental Guidelines for the Evaluation of Risk and Avoidance of Unanticipated Takings” issued under the executive order. These rule amendments do not impose an information collection burden under the provisions of the Paperwork Reduction Act of 1995 (44 U.S.C. 3501 et seq.). The EPA's compliance with these statutes and Executive Orders for the underlying rule is discussed in the July 20, 1999 amendments to the final OSWRO rule.

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the Congressional Review Act if the agency makes a good cause finding that notice and public procedure is impracticable, unnecessary or contrary to the public interest. This determination must be supported by a brief statement (5 U.S.C. 808(2)). As stated previously, the EPA has made such a good cause finding, including the reasons therefor, and established an effective date of January 8, 2001. The EPA will submit a report containing this rule and other required information to the U.S. Senate, the U.S. House of Representatives, and the Comptroller General of the United States prior to publication of the rule in the Federal Register. This action is not a “major rule” as defined by 5 U.S.C. 804(2).

List of Subjects in 40 CFR Part 63

Environmental protection, Air pollution control, Off-site waste and recovery operations.

Dated: December 27, 2000.
Carol M. Browner,
Administrator.

For the reasons set forth in the preamble, title 40, chapter I, part 63 of the Code of Federal Regulations is amended as follows:

PART 63—[AMENDED]

1. The authority citation for part 63 continues to read as follows:

Authority: 42 U.S.C. 7401, et seq.

Subpart DD—National Emission Standards for Hazardous Air Pollutants from Off-Site Waste and Recovery Operations

2. Section 63.684 is amended by revising paragraph (b)(1)(ii) to read as follows:

§ 63.684 Standards: Off-site material treatment.

* * * * *

(b) * * *

(1) * * *

(ii) In the case when off-site material streams entering the treatment process are a mixture of off-site material streams having an average VOHAP concentration equal to or greater than 500 ppmw at the point-of-delivery with off-site material streams having average VOHAP concentrations less than 500 ppmw at the point-of-delivery, then the VOHAP concentration of the off-site material must be reduced to a level at the point-of-treatment that meets the performance level specified in either paragraph (b)(1)(ii)(A) or (B) of this section.

(A) Less than the VOHAP concentration limit (CR) established for the treatment process using the procedure specified in § 63.694(d); or

(B) Less than the lowest VOHAP concentration determined for each of the off-site material streams entering the treatment process as determined by the VOHAP concentration of the off-site material at the point-of-delivery.

* * * * *

3. Section 63.685 is amended by revising paragraph (i) introductory text and adding paragraph (i)(4) to read as follows:

§ 63.685 Standards: Tanks.

* * * * *

(i) The owner or operator who elects to control air emissions by using an enclosure vented through a closed-vent system to an enclosed combustion control device shall meet the requirements specified in paragraphs (i)(1) through (4) of this section.

* * * * *

(4) The owner or operator shall inspect and monitor the closed-vent system and control device as specified in § 63.693.

4. Section 63.691 is amended by revising paragraph (a) to read as follows:

§ 63.691 Standards: Equipment leaks.

(a) The provisions of this section apply to the control of air emissions from equipment leaks for which § 63.683(d) references the use of this section for such air emissions control.

* * * * *

5. Section 63.693 is amended by:

a. Revising paragraphs (d)(3) introductory text and (d)(3)(ii);

b. Revising paragraph (d)(4)(i);

c. Adding paragraph (d)(4)(iii)

d. Revising paragraph (e)(3)(ii);

e. Revising paragraph (f)(3)(iii); and

f. Revising paragraph (g)(3)(ii).

The revisions and addition read as follows:

§ 63.693 Standards: Closed-vent systems and control devices.

* * * * *

(d) * * *

(3) The owner or operator must monitor the operation of the carbon adsorption system in accordance with the requirements of § 63.695(e) using one of the continuous monitoring systems specified in paragraphs (d)(3)(i) through (iii) of this section. Monitoring the operation of a nonregenerable carbon adsorption system (e.g., a carbon canister) using a continuous monitoring system is not required when the carbon canister or the carbon in the control device is replaced on a regular basis according to the requirements in paragraph (d)(4)(iii) of this section.

* * * * *

(ii) A continuous monitoring system to measure and record the daily average concentration level of organic compounds in the exhaust gas stream from the control device. The organic monitoring system must comply either with Performance Specification 8 or 9 in 40 CFR part 60, appendix B. The relative accuracy provision of Performance Specification 8, Sections 2.4 and 3 need not be conducted.

* * * * *

(4) * * *

(i) Following the initial startup of the control device, all carbon in the control device shall be replaced with fresh carbon on a regular, predetermined time interval that is no longer than the carbon service life established for the carbon adsorption system. The provisions of this paragraph (d)(4)(i) do not apply to a nonregenerable carbon adsorption system (e.g., a carbon canister) for which the carbon canister or the carbon in the control device is replaced on a regular basis according to the requirements in paragraph (d)(4)(iii) of this section.

* * * * *

(iii) As an alternative to meeting the requirements in paragraphs (d)(3) and (d)(4)(i) of this section, an owner or operator of a nonregenerable carbon adsorption system may choose to replace on a regular basis the carbon canister or the carbon in the control device using the procedures in either paragraph (d)(4)(iii)(A) or (d)(4)(iii)(B) of this section. For the purpose of complying with this paragraph (d)(4)(iii), a nonregenerable carbon adsorption system means a carbon adsorption system that does not regenerate the carbon bed directly onsite in the control device, such as a carbon canister. The spent carbon removed from the nonregenerable carbon adsorption system must be managed according to the requirements in paragraph (d)(4)(ii) of this section.

(A) Monitor the concentration level of the organic compounds in the exhaust vent from the carbon adsorption system on a regular schedule, and when carbon breakthrough is indicated, immediately replace either the existing carbon canister with a new carbon canister or replace the existing carbon in the control device with fresh carbon. Measurement of the concentration level of the organic compounds in the exhaust vent stream must be made with a detection instrument that is appropriate for the composition of organic constituents in the vent stream and is routinely calibrated to measure the organic concentration level expected to occur at breakthrough. The monitoring frequency must be daily or at an interval no greater than 20 percent of the time required to consume the total carbon working capacity established as a requirement of paragraph (d)(2)(ii)(B) of this section, whichever is longer.

(B) Replace either the existing carbon canister with a new carbon canister or replace the existing carbon in the control device with fresh carbon at a regular, predetermined time interval that is less than the design carbon replacement interval established as a requirement of paragraph (d)(2)(ii)(B) of this section.

(e) * * *

(3) * * *

(ii) A continuous monitoring system to measure and record the daily average concentration level of organic compounds in the exhaust gas stream from the control device. The organic monitoring system must comply either with Performance Specification 8 or 9 in 40 CFR part 60, appendix B. The relative accuracy provision of Performance Specification 8, Sections 2.4 and 3 need not be conducted.

* * * * *

(f) * * *

(3) * * *

(iii) For either type of vapor incinerator, a continuous monitoring system to measure and record the daily average concentration of organic compounds in the exhaust vent stream from the control device. The organic monitoring system must comply either with Performance Specification 8 or 9 in 40 CFR part 60, appendix B. The relative accuracy provision of Performance Specification 8, Sections 2.4 and 3 need not be conducted.

* * * * *

(g) * * *

(3) * * *

(ii) A continuous monitoring system to measure and record the daily average concentration of organic compounds in the exhaust vent stream from the control device. The organic monitoring system must comply either with Performance Specification 8 or 9 in 40 CFR part 60, appendix B. The relative accuracy provision of Performance Specification 8, Sections 2.4 and 3 need not be conducted.

* * * * *

6. Section 63.694 is amended by revising paragraphs (b)(2)(iii) and (l)(3)(ii)(A) to read as follows:

§ 63.694 Testing methods and procedures.

* * * * *

(b) * * *

(2) * * *

(iii) Calculations. The average VOHAP concentration (C) on a mass-weighted basis shall be calculated by using the results for all samples analyzed in accordance with paragraph (b)(2)(ii) of this section and the following equation. An owner or operator using a test method that provides species-specific chemical concentrations may adjust the measured concentrations to the corresponding concentration values which would be obtained had the off-site material samples been analyzed using Method 305. To adjust these data, the measured concentration for each individual HAP chemical species contained in the off-site material is multiplied by the appropriate species-specific adjustment factor (fm305) listed in Table 1 of this subpart.

Where:

C = Average VOHAP concentration of the off-site material at the point-of-delivery on a mass-weighted basis, ppmw.

i = Individual sample “i” of the off-site material.

n = Total number of samples of the off-site material collected (at least 4) for the averaging period (not to exceed 1 year).

Qi = Mass quantity of off-site material stream represented by Ci, kg/hr.

QT = Total mass quantity of off-site material during the averaging period, kg/hr.

Ci = Measured VOHAP concentration of sample “i” as determined in accordance with the requirements of § 63.694(a), ppmw.

* * * * *

(l) * * *

(3) * * *

(ii) * * *

(A) The following equations shall be used:

Where:

Cij, Coj = Concentration of sample component j of the gas stream at the inlet and outlet of the control device, respectively, dry basis, parts per million by volume.

Ei, Eo = Mass rate of TOC (minus methane and ethane) or total HAP at the inlet and outlet of the control device, respectively, dry basis, kilogram per hour.

Mij, Moj = Molecular weight of sample component j of the gas stream at the inlet and outlet of the control device, respectively, gram/gram-mole.

Qi, Qo = Flow rate of gas stream at the inlet and outlet of the control device, respectively, dry standard cubic meter per minute.

K2 = Constant, 2.494×10 −⁶ (parts per million) −¹ (gram-mole per standard cubic meter) (kilogram/gram) (minute/hour), where standard temperature (gram-mole per standard cubic meter) is 20°C.

* * * * *

7. In Table 2 of Subpart DD, the entry “63.10(b)(2)(x)” is revised to read as follows:

Table 2 to Subpart DD—Applicability of Paragraphs in Subpart A of this Part 63—General Provisions to Subpart DD
Subpart A | Applies to Subpart DD | Explanation
* * * * * * *
63.10(b)(2)(x)-(xi) | Yes
* * * * * * *

Subpart PP—National Emission Standards for Containers

8. Section 63.924 is amended by revising paragraph (c)(2) to read as follows:

§ 63.924 Standards—Container Level 3 Controls.

* * * * *

(c) * * *

(2) The closed-vent system and control device shall be designed and operated in accordance with the requirements of § 63.693.

* * * * *

Subpart RR—National Emission Standards for Individual Drain Systems

9. Section 63.962 is amended by revising paragraph (b)(3)(ii)(A) to read as follows:

§ 63.962 Standards.

* * * * *

(b) * * *

(3) * * *

(ii) * * *

(A) The junction box shall be vented through a closed vent system to a control device except as provided for in paragraph (b)(3)(ii)(B) of this section. The closed vent system and control device shall be designed and operated in accordance with the standards specified in § 63.693.

* * * * *

10. Section 63.965 is amended by revising paragraph (b) to read as follows:

§ 63.965 Recordkeeping requirements.

* * * * *

(b) Owners and operators that use a closed-vent system and a control device in accordance with the provisions of § 63.962 shall prepare and maintain the records required for the closed-vent system and control device in accordance with the requirements of § 63.693.

11. Section 63.966 is revised to read as follows:

§ 63.966 Reporting requirements.

Owners and operators that use a closed-vent system and a control device in accordance with the provisions of § 63.962 shall prepare and submit to the Administrator the reports required for closed-vent systems and control devices in accordance with the requirements of § 63.693.

Subpart VV—National Emission Standards for Oil-Water Separators and Organic-Water Separators

12. Section 63.1045 is amended by revising paragraph (b)(3)(ii) to read as follows:

§ 63.1045 Standards—Pressurized separator.

* * * * *

(b) * * *

(3) * * *

(ii) At those times when purging of inerts from the separator is required, and the purge stream is routed to a closed-vent system and control device designed and operated in accordance with the applicable requirements of § 63.693.

[FR Doc. 01-365 Filed 1-5-01; 8:45 am]

BILLING CODE 6560-50-P